FEDERAL COMMUNICATIONS COMMISSION

47 CFR Part 15

[ET Docket No. 98-156; FCC 03-175]

Certification of Equipment in the 24.05-24.25 GHz Band at Field Strengths up to 2500 mV/m

AGENCY: Federal Communications Commission.

ACTION: Final rule; termination.

SUMMARY: In this document, the Commission affirms the decision to allow the unlicensed operation of fixed point-to-point transmitters in the 24.05-24.25 GHz band at field strengths up to 2500 mV/m under amended provisions of the Commission's rules. In the course of taking this action, the Commission also denies the petition for reconsideration filed by the National Association for Amateur Radio (ARRL) that challenged the decision to allow the described operation on an unlicensed basis. Because the MO&O resolves all pending matters in this proceeding, the Commission terminates this proceeding.

ADDRESSES: Office of the Secretary, Federal Communications Commission, 445 12th Street, SW., TW-A325, Washington, DC 20554.

FOR FURTHER INFORMATION CONTACT: Gary Thayer, Office of Engineering and Technology, (202) 418-2290, TTY (202) 418-2989, e-mail: gary.thayer@fcc.gov; Neal McNeil, Office of Engineering and Technology, (202) 418-2408, e-mail: neal.mcneil@fcc.gov.

SUPPLEMENTARY INFORMATION: This is a summary of the Commission's Memorandum Opinion and Order, ET Docket No. 98-156, FCC 03-175, adopted July 15, 2003, and released July 21, 2003. The full text of this Commission decision is available on the Commission's Internet site at www.fcc.gov. It is available for inspection and copying during normal business hours in the FCC Reference Information Center, Room CY-A257, 445 12th Street, SW., Washington, DC 20554. The complete text of this document also may be purchased from the Commission's copy contractor, Qualex International, 445 12th Street, SW., Room CY-B402, Washington, DC 20554. Alternative formats are available to persons with disabilities by contacting Brian Millin at (202) 418-7426 or TTY (202) 418-7365.

Summary of the Memorandum Opinion and Order

1. In the Report and Order (R&O) in this proceeding, ET Docket No. 98-156, 67 FR 1,623, January 14, 2002, the Commission amended § 15.249 of the Commission's rules to allow unlicensed operation of fixed point-to-point transmitters in the 24.05-24.25 GHz band with field strengths up to 2500 mV/m. The Commission further decided that such devices must use directional antennas with gains of at least 33 dBi or a main lobe beamwidth not exceeding 3.5 degrees. The Commission also adopted strict frequency stability requirements to limit out-of-band emissions to minimal levels. The Commission concluded that it is in the public interest to allow such operation on an unlicensed basis to supplement the growing demand for licensed point-to-point facilities that satisfy important communications needs. For example, the Commission concluded that increasing the field strength limit would promote greater use of part 15 unlicensed devices for emergency restoration of communications in disaster situations, low-cost telecommunications delivery in rural areas, and other beneficial applications.

2. By this Memorandum Opinion and Order, the Commission affirms the decision made in the R&O to allow the unlicensed operation of fixed point-to-point transmitters in the 24.05-24.25 GHz band at field strengths up to 2500 mV/m under amended provisions of § 15.249 in part 15 of the Rules. The Commission affirms the central technical finding made in the R&O namely, that devices having field strengths up to 2500 mV/m and conforming to the specified directional antenna requirements are suitable for unlicensed operation under part 15 in the 24.05-24.25 GHz band. In particular, the Commission affirms the conclusion that devices operating within these requirements will not increase the interference potential to licensed amateur services in the band.

3. In the course of affirming its decision in the R&O, the Commission also denies the petition for reconsideration filed by the National Association for Amateur Radio (ARRL) that challenged the propriety of the described operation in the 24.05-24.25 GHz band on an unlicensed basis. Because the unlicensed operation provided for by the R&O will not increase the interference potential to licensed amateur services in the band, the Commission finds no merit in ARRL's argument that the Commission violated 47 U.S.C. 301 of the Communications Act in authorizing the unlicensed operation under part 15 of the Commission's rules. Furthermore, the Commission affirms that the rules adopted in the R&O are reasonable for regulating the unlicensed operation that was authorized under part 15 in this proceeding. Finally, since the MO&O resolves all pending matters in this proceeding, the Commission terminates this proceeding.

Federal Communications Commission.
Marlene H. Dortch,
Secretary.

[FR Doc. 03-21618 Filed 8-22-03; 8:45 am]

BILLING CODE 6712-01-P